DEPARTMENT OF TRANSPORTATION

Federal Aviation Administration

14 CFR Part 39

[Docket No. 2000-NM-162-AD; Amendment 39-12582; AD 2001-26-16]

RIN 2120-AA64

Airworthiness Directives; McDonnell Douglas DC-9-81, -82, -83, and -87 Series Airplanes, and Model MD-88 Airplanes

AGENCY: Federal Aviation Administration, DOT.

ACTION: Final rule.

SUMMARY: This amendment adopts a new airworthiness directive (AD), applicable to certain McDonnell Douglas DC-9-81, -82, -83, and -87 series airplanes, and Model MD-88 airplanes, that requires replacing the interface connectors of the cabin fluorescent lighting ballast in the wiring harness of the overhead stowage compartment with new connectors. In lieu of the required replacement, this AD requires adding interface seals to the existing interface connectors of the cabin fluorescent lighting ballast between certain stations and reidentifying the connector assemblies. This action is necessary to prevent electrical shorting and arcing due to the presence of water in the lighting ballast interface connectors, which could result in smoke in the main cabin. This action is intended to address the identified unsafe condition.

DATES: Effective February 8, 2002.

The incorporation by reference of certain publications listed in the regulations is approved by the Director of the Federal Register as of February 8, 2002.

ADDRESSES: The service information referenced in this AD may be obtained from Boeing Commercial Aircraft Group, Long Beach Division, 3855 Lakewood Boulevard, Long Beach, California 90846, Attention: Data and Service Management, Dept. C1-L5A (D800-0024). This information may be examined at the Federal Aviation Administration (FAA), Transport Airplane Directorate, Rules Docket, 1601 Lind Avenue, SW., Renton, Washington; or at the FAA, Los Angeles Aircraft Certification Office, 3960 Paramount Boulevard, Lakewood, California; or at the Office of the Federal Register, 800 North Capitol Street, NW., suite 700, Washington, DC.

FOR FURTHER INFORMATION CONTACT: Elvin Wheeler, Aerospace Engineer, Systems and Equipment Branch, ANM-130L, FAA, Los Angeles Aircraft Certification Office, 3960 Paramount Boulevard, Lakewood, California 90712-4137; telephone (562) 627-5344; fax (562) 627-5210.

SUPPLEMENTARY INFORMATION: A proposal to amend part 39 of the Federal Aviation Regulations (14 CFR part 39) to include an airworthiness directive (AD) that is applicable to certain McDonnell Douglas Model DC-9-81, -82, -83, and -87 series airplanes, and Model MD-88 airplanes was published in the Federal Register on June 5, 2001 (66 FR 30097). That action proposed to require replacing the interface connectors of the cabin fluorescent lighting ballast in the wiring harness of the overhead stowage compartment with new connectors.

Comments

Interested persons have been afforded an opportunity to participate in the making of this amendment. Due consideration has been given to the comments received.

Support for the Proposed AD

One commenter states that it does not own or operate the equipment affected by the referenced document, and therefore has no comments to offer. Another commenter notes that it does operate airplanes affected by the rule but has no comments regarding the AD as proposed.

Request for Use of Latest Revision

One commenter requests that Boeing Alert Service Bulletin MD80-33A096, Revision 03, dated August 14, 2001, be an approved method of accomplishment for the replacement required by the proposed AD. The commenter states that Boeing is currently developing Revision 03 of the subject service bulletin, and that revision will provide instructions to install an interfacial seal into the existing ballast connectors, rather than requiring complete replacement of the connectors. The commenter notes that Boeing has indicated that Boeing Alert Service Bulletin MD80-33A096, Revision 03, will provide a level of safety that is equivalent to the proposed connector replacement.

The FAA concurs. Since the issuance of the NPRM, the FAA has reviewed and approved Revision 03 of Boeing (McDonnell Douglas) Alert Service Bulletin MD80-33A096, dated August 14, 2001. Revision 03 adds an option to add interface seals to the existing interface connectors of the cabin fluorescent lighting ballast between stations Y=218.000 to Y=1338.000 and reidentify the connector assemblies. No more work is necessary on airplanes changed as shown in Revision 02 of the service bulletin (which was referenced in the NPRM as the appropriate source of service information). We have revised the final rule to reference Boeing Alert Service Bulletin MD80-33A096, Revision 03, dated August 14, 2001, as the appropriate source of service information, and to include in paragraph (a) of the final rule the option discussed above. We also have revised the Cost Impact section of the final rule to include the cost estimate associated with the new option. In addition, we have revised Note 2 of the final rule to include Revision 02 of the subject service bulletin as an acceptable method of compliance with the requirements of this AD.

Conclusion

After careful review of the available data, including the comments noted above, the FAA has determined that air safety and the public interest require the adoption of the rule with the changes previously described. The FAA has determined that these changes will neither increase the economic burden on any operator nor increase the scope of the AD.

Cost Impact

There are approximately 747 airplanes of the affected design in the worldwide fleet. The FAA estimates that 486 airplanes of U.S. registry will be affected by this AD.

In lieu of the required incorporation of interface seals, it will take approximately 15 work hours per airplane to accomplish the required replacement, at an average labor rate of $60 per work hour. Required parts will cost approximately $510 per airplane. Based on these figures, the cost impact of the AD on U.S. operators is estimated to be $1,410 per airplane.

In lieu of the required replacement, it will take approximately 3 work hours per airplane to accomplish the required incorporation of interface seals, at an average labor rate of $60 per work hour. Required parts will cost approximately $300 per airplane. Based on these figures, the cost impact of the incorporation required by this AD on U.S. operators is estimated to be $480 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-26-16 McDonnell Douglas: Amendment 39-12582. Docket 2000-NM-162-AD.

Applicability: Model DC-9-81, -82, -83, and -87 series airplanes, and Model MD-88 airplanes, as listed in Boeing Alert Service Bulletin MD80-33A096, Revision 03, dated August 14, 2001; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent electrical shorting and arcing due to the presence of water in the lighting ballast interface connectors, which could result in smoke in the main cabin, accomplish the following:

Replacement or Incorporation of Interface Seals

(a) Within 18 months after the effective date of this AD, accomplish the actions specified in paragraph (a)(1) or (a)(2) of this AD per Boeing Alert Service Bulletin MD80-33A096, Revision 03, dated August 14, 2001.

(1) Replace the interface connectors of the cabin fluorescent lighting ballast in the wiring harness of the overhead stowage compartment with new connectors; or

(2) Add interface seals to the existing interface connectors of the cabin fluorescent lighting ballast between stations Y=218.000 to Y=1338.000 and reidentify the connector assemblies.

Note 2: Replacement of connectors prior to the effective date of this AD in accordance with McDonnell Douglas MD80 Service Bulletin 33-96, dated December 15, 1993; Revision 1, dated February 28, 1994; or Revision 02, dated November 1, 1999; is considered acceptable for compliance with the requirements of paragraph (a) of this AD.

Spares

(b) As of the effective date of this AD, no person shall install any connector, part number MB10R-6, on any airplane.

Alternative Methods of Compliance

(c) An alternative method of compliance or adjustment of the compliance time that provides an acceptable level of safety may be used if approved by the Manager, Los Angeles Aircraft Certification Office (ACO), FAA. Operators shall submit their requests through an appropriate FAA Principal Maintenance Inspector, who may add comments and then send it to the Manager, Los Angeles ACO.

Note 3: Information concerning the existence of approved alternative methods of compliance with this AD, if any, may be obtained from the Los Angeles ACO.

Special Flight Permits

(d) Special flight permits may be issued in accordance with sections 21.197 and 21.199 of the Federal Aviation Regulations (14 CFR 21.197 and 21.199) to operate the airplane to a location where the requirements of this AD can be accomplished.

Incorporation by Reference

(e) The replacement shall be done in accordance with Boeing Alert Service Bulletin MD80-33A096, Revision 03, dated August 14, 2001. This incorporation by reference was approved by the Director of the Federal Register in accordance with 5 U.S.C. 552(a) and 1 CFR part 51. Copies may be obtained from Boeing Commercial Aircraft Group, Long Beach Division, 3855 Lakewood Boulevard, Long Beach, California 90846, Attention: Data and Service Management, Dept. C1-L5A (D800-0024). Copies may be inspected at the FAA, Transport Airplane Directorate, 1601 Lind Avenue, SW., Renton, Washington; or at the FAA, Los Angeles Aircraft Certification Office, 3960 Paramount Boulevard, Lakewood, California; or at the Office of the Federal Register, 800 North Capitol Street, NW., suite 700, Washington, DC.

Effective Date

(f) This amendment becomes effective on February 8, 2002.

Issued in Renton, Washington, on December 21, 2001.
Ali Bahrami,
Acting Manager, Transport Airplane Directorate, Aircraft Certification Service.

[FR Doc. 02-145 Filed 1-3-02; 8:45 am]

BILLING CODE 4910-13-U